DEPARTMENT OF THE TREASURY

Customs Service

[T.D. 01-53]

Extension of Customs Approval for SGS Control Services, Incorporated as a Commercial Gauger

AGENCY: U.S. Customs Service, Department of the Treasury.

ACTION: Notice of an extension of customs approval for SGS Control Services, Inc. as a commercial gauger.

SUMMARY: SGS Control Services, Inc. of Houston, Texas, has applied to U.S. Customs under Part 151.13 of the Customs Regulations for an extension of Customs approval as a commercial gauger for their Pasadena, Texas site, to gauge petroleum product, animal and vegetable oils, and organic compounds. Customs has determined that this company meets all of the requirements for an extension of Customs approval as a commercial gauger. Specifically, SGS Control Services, Inc., Pasadena, Texas, has been granted approval to gauge petroleum product under Chapter 27 and Chapter 29, animal and vegetable oils under Chapter 15 and organic compounds under Chapter 29 of the Harmonized Tariff Schedule of the United States (HTSUS). Therefore, in accordance with Part 151.13 of the Customs Regulations, SGS Control Services, Inc. is hereby approved to gauge the products named above.

Location: SGS Control Services, Inc. approved site is located at, 530 North Witter, Pasadena, Texas, 77506.

EFFECTIVE DATE: July 2, 2001.

FOR FURTHER INFORMATION CONTACT: Michael Parker, National Quality Manager, Laboratories and Scientific Services, U.S. Customs Service, 1300 Pennsylvania Avenue, NW, Suite 1500 North, Washington, DC 20229, (202) 927-1060.

Dated: July 2, 2001.
Ira S. Reese,
Executive Director, Laboratories and Scientific Services.

[FR Doc. 01-17488 Filed 7-11-01; 8:45 am]

BILLING CODE 4820-02-P